OFFICE OF MANAGEMENT AND BUDGET

Construction Materials Used in Federal Financial Assistance Projects for Infrastructure and End Products Manufactured in the United States Under the Build America, Buy America Act; Request for Information

AGENCY: Office of Management and Budget.

ACTION: Request for information; extension of comment period.

SUMMARY: On April 21, 2022, OMB issued a request for information seeking input concerning requirements that any infrastructure projects funded with Federal financial assistance under the Build America, Buy America Act (“the Act”), enacted as part of the Infrastructure Investment and Jobs Act (IIJA) on November 15, 2021, only use construction materials “produced in the United States.” The notice also sought input on behalf of the Federal Acquisition Regulatory Council (FAR Council) on a definition for “end product manufactured in the United States,” for incorporation into the Federal Acquisition Regulation (FAR). The deadline for submitting comments is being extended from May 23, 2022 to June 6, 2022 to provide additional time for interested parties to provide comments.

DATES: For the RFI published on April 21, 2022, submit comments on or before 11:59 p.m. June 6, 2022.

ADDRESSES: Please submit any written comments electronically through the Federal eRulemaking Portal at https://regulations.gov. Go to http://regulations.gov and select “Office of Management and Budget” from the agency menu to submit or view public comments. Please note that all public comments received are subject to the Freedom of Information Act and will be posted in their entirety, including any personal and/or business confidential information provided. Do not include any information you would not like to be made publicly available. All statements received, including attachments and other supporting materials, are part of the public record and subject to public disclosure. You should submit only information that you wish to make available publicly.

FOR FURTHER INFORMATION CONTACT: For questions about this RFI, please contact Tim Soltis, Office of Management and Budget, 202-395-7587, or via email (preferred) at Timothy.F.Soltis@omb.eop.gov.

SUPPLEMENTARY INFORMATION: OMB published an RFI in the Federal Register at 87 FR 23888 on April 21, 2022 (Docket No. 2022-08491). The comment period is extended to June 6, 2022 to allow additional time for interested parties to develop comments in response to the questions posed in the RFI that will be used to further inform future guidance by OMB and future regulatory actions by the FAR Council.

Celeste Drake,
Director, Made in America Office.

[FR Doc. 2022-11296 Filed 5-25-22; 8:45 am]

BILLING CODE 3110-01-P